DEPARTMENT OF HEALTH AND HUMAN SERVICES

Centers for Medicare & Medicaid Services

[CMS-2405-N]

RIN 0938-ZB34

Medicaid Program; State Allotments for Payment of Medicare Part B Premiums for Qualifying Individuals (QIs): Federal Fiscal Year 2014 and Federal Fiscal Year 2015 through Calendar Year 2015

AGENCY: Centers for Medicare & Medicaid Services (CMS), HHS.

ACTION: Notice.

SUMMARY: This notice sets forth the states' final allotments available to pay the Medicare Part B premiums for Qualifying Individuals (QIs) for the federal fiscal year (FY) 2014 and the preliminary QI allotments for federal FY 2015 which is extended through calendar year (CY) 2015 (December 2015) by the Medicare Access and CHIP Reauthorization Act of 2015 (MACRA). The amounts of these QI allotments were determined in accordance with the methodology set forth in regulations and reflect funding for the QI program made available under recent legislation.

DATES: The final QI allotments for payment of Medicare Part B premiums for FY 2014 are effective October 1, 2013. The preliminary QI allotments for FY 2015, extended through CY 2015 are effective October 1, 2014.

FOR FURTHER INFORMATION CONTACT: Jennifer Gibson, (410) 786-5404 or Toni Cincibus at (410) 786-2997.

SUPPLEMENTARY INFORMATION:

I. Background

A. QI Allotments for FY 2014

As amended by section 621 of the American Taxpayer Relief Act of 2012 (ATRA) (Pub. L. 112-240, enacted on January 2, 2013), section 1933(g)(2) of the Social Security Act (the Act) provided $300 million in funding for the period October 1, 2013 through December 31, 2013, the first quarter of fiscal year (FY) 2014. Section 1201 of Division B of the legislation “Pathway for SGR Reform Act of 2013” (Pub. L. 113-67 enacted on December 26, 2013) provided an additional $200 million and authority for the Qualifying Individual (QI) program for the period January 1, 2014 through March 31, 2014 (second quarter of FY 2014). In addition, section 201 of the Protecting Access to Medicare Act of 2014 (PAMA) (Pub. L. 113-93 enacted on April 1, 2014) revised the $200 to $485 million and extended the period for which such funds were available to the end of September 2014. Therefore, the total funding available for the QI program for FY 2014 is $785 million ($300 million for the first quarter of FY 2014, and $485 million for the second through fourth quarters of FY 2014).

B. QI Allotments for FY 2015/CY 2015 and Thereafter

Section 201 of PAMA extended the authority and funding for the QI program for FY 2015 as follows: $300 million for the period October 1, 2014 through December 31, 2014 (first quarter of FY 2015); and, $250 million for the period January 1, 2015 through March 31, 2015 (second quarter FY 2015). Section 211 of the Medicare Access and CHIP Reauthorization Act of 2015 (MACRA) (Pub. L. 114-10, enacted on April 16, 2015) further extended the authority and funding for the QI program for FY 2015 as follows: $535 million for the period April 1, 2015 through December 31, 2015, effectively changing QI to a calendar year basis from a fiscal year basis. Therefore, a total of $1.085 billion is available for the QI program for FY/CY 2015.

Section 211 of MACRA also permanently extended the QI program while allocating $980 million for CY 2016.

C. Methodology for Calculating the Fiscal Year/Calendar Year QI Allotments.

The amounts of the states' final FY 2014 and preliminary FY/CY 2015 QI allotments, contained in this notice, were determined in accordance with the methodology set forth in existing regulations at 42 CFR 433.10(c)(5) and reflect funding for the QI program made available under the legislation discussed above.

II. Tables

The final QI allotments for FY 2014 and the preliminary QI allotments for FY/CY 2015 are shown by state in Table 1 and Table 2, respectively:

Table 1—Final Qualifying Individuals Allotments for October 1, 2013 through September 30, 2014.

Table 2—Preliminary Qualifying Individuals Allotments for October 1, 2014 through December 31, 2015.

BILLING CODE 4120-01-P

BILLING CODE 4120-01-C

The following describes the information contained in the columns of Table 1 and Table 2:

Column A—State. Column A shows the name of each state. Columns B through D show the determination of an Initial QI Allotment for FY 2014 (Table 1) or FY/CY 2015 (Table 2) for each state, based only on the indicated Census Bureau data.

Column B—Number of Individuals. Column B contains the estimated average number of Medicare beneficiaries for each state that are not covered by Medicaid whose family income is at least 120 but less than 135 percent of the federal poverty level. With respect to the final FY 2014 QI allotment (Table 1), Column B contains the number of such individuals for the years 2011 through 2013, as obtained from the Census Bureau's Annual Social and Economic Supplement to the 2013 Current Population Survey. With respect to the preliminary FY/CY 2015 QI allotment (Table 2), Column B contains the number of such individuals for the years 2012 through 2014, as obtained from the Census Bureau's Annual Social and Economic Supplement to the 2014 Current Population Survey and the American Community Survey (ACS).

Column C—Percentage of Total. Column C provides the percentage of the total number of individuals for each state, that is, the Number of Individuals for the state in Column B divided by the sum total of the Number of Individuals for all states in Column B.

Column D—Initial QI Allotment. Column D contains each state's Initial QI Allotment for FY 2014 (Table 1) or FY/CY 2015 (Table 2), calculated as the state's Percentage of Total in Column C multiplied by the total amount available nationally for QI allotments for the fiscal year/calendar year. The total amount available nationally for QI allotments each fiscal year is $785,000,000 for FY 2014 (Table 1) and $1,085,000,000 for FY/CY 2015 (Table 2).

Columns E through L show the determination of the States' Final QI Allotments for FY 2014 (Table 1) or Preliminary QI Allotments for FY/CY 2015 (Table 2).

Column E—FY 2014 or FY/CY 2015 Estimated QI Expenditures. Column E contains the states' estimates of their total QI expenditures for FY 2014 (Table 1) or FY/CY 2015 (Table 2) based on information obtained from states in the summer of 2014 and as updated.

Column F—Need (Difference). Column F contains the additional amount of QI allotment needed for those states whose estimated expenditures in Column E exceeded their Initial QI allotments in Column D for FY 2014 (Table 1) or for FY/CY 2015 (Table 2). For such states, Column F shows the amount in Column E minus the amount in Column D. For other “Non-Need” States, Column F shows “NA.”

Column G—Percent of Total Need States. For states whose projected QI expenditures in Column E are greater than their initial QI allotment in Column D for FY 2014 (Table 1) or FY/CY 2015 (Table 2), respectively, Column G shows the percentage of total need, determined as the amount for each Need State in Column F divided by the sum of the amounts for all states in Column F. For Non-Need States, the entry in Column G is “NA.”

Column H—Reduction Pool for Non-Need States. Column H shows the amount of the pool of surplus QI allotments for FY 2014 (Table 1) or FY/CY 2015 (Table 2), respectively, for those states that project QI expenditures for the fiscal year/calendar year that are less than the Initial QI allotment for the fiscal year/calendar year (referred to as Non-Need States). For states for which the estimates in Column E of QI expenditures for FY 2014 or FY/CY 2015, respectively, are equal to or less than their Initial QI allotments in Column D for FY 2014 or FY/CY 2015, respectively, Column H shows the amount in Column D minus the amount in Column E. For the states with a need, Column H shows “Need”. The reduction pool of excess QI allotments is equal to the sum of the amounts in Column H.

Column I—Percent of Total Non-Need States. For states whose projected QI expenditures in Column E are less than their Initial QI allotment in Column D for FY 2014 (Table 1) or FY/CY2015 (Table 2), Column I shows the percentage of the total reduction pool in Column H, determined as the amount for each Non-Need State in Column H divided by the sum of the amounts for all States in Column H. For Need States, the entry in Column I is “Need.”

Column J—Reduction Adjustment for Non-Need States. Column J shows the amount of adjustment needed to reduce the Initial QI allotments in Column D for FY 2014 (Table 1) or FY/CY 2015 (Table 2) for Non-Need States in order to address the total need shown in Column F. The amount in Column J is determined as the percentage in Column I for Non-Need States multiplied by the lesser of the total need in Column F (equal to the sum of Needs in Column F) or the total Reduction Pool in Column H (equal to the sum of the Non-Need amounts in Column H). For Need States, the entry in Column J is “Need.”

Column K—Increase Adjustment for Need States. Column K shows the amount of adjustment to increase the Initial QI Allotment in Column D for FY 2014 (Table 1) or FY/CY 2015 (Table 2) for Need States in order to address the total need shown for the fiscal year in Column F. The amount in Column K is determined as the percentage in Column G for Need States multiplied by the lesser of the total need in Column F (equal to the sum of Needs in Column F) or the total Reduction Pool in Column H (equal to the sum of the Non-Need amounts in Column H). For Non-Need States, the entry in Column K is “NA.”

Column L—Final FY 2014 QI Allotment (Table 1) or Preliminary FY/CY 2015 QI Allotment (Table 2). Column L contains the Final QI Allotment for each state for FY 2014 (Table 1) or the Preliminary QI Allotment for FY/CY 2015 (Table 2). For states that need additional QI allotment amounts for the fiscal year based on Estimated QI Expenditures in Column E as compared to their Initial QI allotments in Column D for the fiscal year (states with a projected need amount are shown in Column F), Column L is equal to the Initial QI allotment in Column D for FY 2014 (Table 1) or FY/CY 2015 (Table 2) plus the amount determined in Column K for Need States. For Non-Need States (states with a projected surplus in Column H), Column L is equal to the QI Allotment in Column D reduced by the Reduction Adjustment amount in Column J.

III. Collection of Information Requirements

This notice does not impose any information collection or recordkeeping requirements. Consequently, it does not need Office of Management and Budget review under the authority of the Paperwork Reduction Act of 1995 (44 U.S.C. 3501 et seq.).

Dated: June 7, 2017.
Seema Verma,
Administrator, Centers for Medicare & Medicaid Services.
Dated: July 17, 2017.
Thomas E. Price,
Secretary, Department of Health and Human Services.

[FR Doc. 2017-15372 Filed 7-20-17; 8:45 am]

BILLING CODE 4120-01-P